DEPARTMENT OF JUSTICE

Notice of Lodging of Proposed Consent Decree Under the Clean Air Act

On December 20, 2017, the Department of Justice lodged a proposed consent decree with the United States District Court for the Western District of Pennsylvania in the lawsuit entitled PennEnvironment, Inc., et al. v. ArcelorMittal Monessen LLC, et al., Civil Action No. 2:15-cv-01314-CRE.

The lawsuit seeks injunctive relief and civil penalties for violations of the Clean Air Act, Pennsylvania's federally-approved State Implementation Plan (“Pennsylvania SIP”), and a Title V operating permit (“Title V permit”) at Defendant ArcelorMittal Monessen LLC's (“AMM”) coke production facility in Monessen, Pennsylvania (“Monessen Plant”). The principal violations relate to alleged failures to meet opacity limits applicable to the coke oven battery combustion stacks and pushing operations, resulting in emissions of particulate matter and other pollutants to the atmosphere.

The proposed decree requires AMM to perform injunctive relief and pay a $1.5 million civil penalty. Entering into and fully complying with the proposed consent decree will release AMM from past civil liability at the Monessen Plant for various types of violations of the Pennsylvania SIP and the Title V permit, including the opacity violations alleged in the complaint.

The publication of this notice opens a period for public comment on the consent decree. Comments should be addressed to the Assistant Attorney General, Environment and Natural Resources Division, and should refer to PennEnvironment, Inc., et al. v. ArcelorMittal Monessen LLC, D.J. Ref. No. 90-5-2-1-11563. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $27.00 (25 cents per page reproduction cost) payable to the United States Treasury.

Robert Brook,
Assistant Section Chief, Environmental Enforcement Section, Environment and Natural Resources Division.

[FR Doc. 2017-27741 Filed 12-22-17; 8:45 am]

BILLING CODE 4410-15-P